FEDERAL MARITIME COMMISSION

[Docket No. 03-09]

Puerto Rico Freight Systems, Inc. v. PR Logistics Corp.; Notice of Filing of Complaint and Assignment

Notice is given that a complaint has been filed by Puerto Rico Freight Systems, Inc. (“Complainant”), against PR Logistics Corp. (“Respondent”). Complainant contends that Respondent violated the agreement filing provisions of section 5, the tariff publication provisions of section 8, and prohibitions against discriminatory behavior under section 10 of the Shipping Act of 1984, 46 U.S.C. app. §§ 1704, 1707, and 1709. Complainant seeks an order finding Respondent to have violated the sections cited above, directing Respondent to cease and desist, and awarding reparations for the unlawful conduct in an amount “in excess of $25,000, with interest and counsel's fees.”

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by September 7, 2004, and the final decision of the Commission shall be issued by January 5, 2005.

Bryant L. VanBrakle,
Secretary.

[FR Doc. 03-23558 Filed 9-15-03; 8:45 am]

BILLING CODE 6730-01-P